DEPARTMENT OF EDUCATION

Submission for OMB Review; Comment Request

AGENCY: Department of Education.

ACTION: Correction notice.

SUMMARY: On April 2, 2010, the Department of Education published a 30-day comment period notice in the Federal Register (Page 16762, Column 1) seeking public comment for an information collection entitled, “Federal Family Education Loan (FFEL) Program, Federal Perkins Loan Program and William D. Ford Federal Direct Loan (Direct Loan) Program Military Service Deferment/Post-Active Duty Student Deferment Request.” This notice is hereby withdrawn. Public comment will be requested at a future date. The Acting Director, Information Collection Clearance Division, Regulatory Information Management Services, Office of Management, hereby issues a correction notice as required by the Paperwork Reduction Act of 1995.

Dated: April 2, 2010.
James Hyler,
Acting Director, Information Collection Clearance Division, Regulatory Information Management Services, Office of Management.

[FR Doc. 2010-7937 Filed 4-7-10; 8:45 am]

BILLING CODE 4000-01-P